DEPARTMENT OF HOMELAND SECURITY

Office of the Secretary

[Docket No. DHS-2010-0007]

Privacy Act of 1974; Department of Homeland Security Immigration and Customs Enforcement-007 Alien Criminal Response Information Management System of Records

AGENCY: Privacy Office, DHS.

ACTION: Notice of modification to existing Privacy Act system of records.

SUMMARY: In accordance with the Privacy Act of 1974 the Department of Homeland Security U.S. Immigration and Customs Enforcement is updating an existing system of records titled, Department of Homeland Security/Immigration and Customs Enforcement-007 Law Enforcement Support Center Alien Criminal Response Information Management System of Records (73 FR 74739, December 9, 2008). The information in this system of records includes data gathered and maintained both in paper form and electronically by U.S. Immigration and Customs Enforcement to carry out its mission to receive and respond to immigration status inquiries from criminal justice agencies regarding individuals arrested, under investigation, or otherwise encountered by those agencies. This system of records supports the Immigration and Customs Enforcement Secure Communities Program, the management of records in the Federal Bureau of Investigation's National Crime Information Center about persons who are the subject of Immigration and Customs Enforcement-issued criminal warrants and immigration lookouts, and the Department of Homeland Security/Immigration and Customs Enforcement Tip-line operation for receiving reports from the public as well as governmental and non-governmental organizations concerning customs and immigration violations, suspicious activity, or other law enforcement matters. This system also supports Immigration and Customs Enforcement efforts to conduct immigration status checks on foreign born individuals applying to purchase/obtain a firearm in the United States, individuals supporting special security events, and individuals who are Federal or contract employees and applicants undergoing a U.S. Office of Personnel Management background investigation. Categories of individuals, categories of records, and the purpose statement and routine uses of this system of records notice have been updated to better reflect the current status of these records. The exemptions for the existing system of records notice will continue to be applicable for this system of records notice. Additionally, this system will continue to be included in the Department of Homeland Security's inventory of record systems.

DATES: Submit comments on or before March 26, 2010. This new system will be effective March 26, 2010.

ADDRESSES: You may submit comments, identified by docket number DHS-2010-0007 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: Lyn Rahilly (202-732-3300), Privacy Officer, U.S. Immigration and Customs Enforcement, 500 12th Street, SW., Washington, DC 20536; Mary Ellen Callahan (703-235-0780), Chief Privacy Officer, Privacy Office, U.S. Department of Homeland Security, Washington, DC 20528.

SUPPLEMENTARY INFORMATION:

I. Background

The Department of Homeland Security (DHS) is updating and reissuing DHS/Immigration and Customs Enforcement (ICE)-09007 Law Enforcement Support Center (LESC) Alien Criminal Response Information Management (ACRIMe) System (73 FR 74739, December 9, 2008) to add or modify the categories of records and individuals, purpose statement, and routine uses for the system of records in order to clarify the nature of the customs and immigration law enforcement records maintained by ICE. The system of records is being renamed DHS/ICE-007 Alien Criminal Response Information Management (ACRIMe) System of Records.

DHS is expanding and clarifying the categories of individuals in this system of records notice. As amended, this system of records pertains to the following category of individuals: (1) Individuals who are the subject of an immigration status inquiry directed to ICE by criminal justice agencies that have arrested, investigated, encountered, or had custody of the individual; (2) individuals who report tips to DHS/ICE about suspicious activity or other law enforcement and the individuals about whom those reports are made; (3) individuals who are the subject of criminal arrest warrants and immigration lookouts that ICE has entered into the Federal Bureau of Investigation's (FBI) National Crime Information Center (NCIC) System; (4) individuals subject to background investigations by a Federal agency for employment and/or national security purposes; (5) individuals who are applying to obtain/purchase a firearm in the United States and whose information has been submitted to ICE for the purpose of conducting an immigration status check in support of background checks required by the Brady Handgun Violence Protection Act (Brady Act) or other applicable laws; and (6) personnel working for criminal justice agencies who contact ICE for law enforcement assistance.

DHS is also updating and clarifying the existing categories of records in this system of records notice to include: (1) Biographic identifiers, other identifiers, and contact information, (2) visa, border, immigration and citizenship information, (3) criminal history information, (4) NCIC hit confirmation records, (5) background investigation records, (6) criminal justice immigration status check records received from domestic, foreign, and international criminal justice agencies about individuals who have been arrested by, investigated by, encountered by, or are otherwise in the custody of such agencies, (7) identification and authentication information for criminal justice agency personnel who contact ICE, (8) public tip records, and (9) information about ICE's follow-up actions on tips or other information received.

DHS is updating this notice to clarify and expand the purposes of the ACRIMe system of records. The purposes of the ACRIMe system of records are now as follows: (1) To identify and arrest individuals in the United States who may be subject to removal under the Immigration and Nationality Act, as amended; (2) to respond to inquiries from criminal justice agencies that seek to determine the immigration status of an individual in the context of a criminal justice matter for the purpose of identifying and arresting those who may be subject to removal; (3) to inform criminal justice agencies and agencies conducting background checks whether an individual is under investigation and/or wanted by ICE or other criminal justice agencies; (4) to receive, process and act on information received from the general public and other sources regarding suspicious activities and actual or potential violations of laws enforced by ICE or DHS, and to refer any other actionable information to the appropriate agencies for action; (5) to provide assistance to domestic, foreign and international agencies that contact ICE and the LESC on matters within the scope of ICE's law enforcement authorities, including violations of U.S. customs and immigration laws; (6) to collect and analyze data to evaluate the effectiveness and quality of services provided to other agencies in support of the purposes described above, and of ICE's customs and immigration law enforcement efforts generally; and (7) to identify potential criminal activity, immigration violations, and threats to homeland security; to uphold and enforce the law; and to ensure public safety.

Finally, DHS is updating this system of records notice to add several new routine uses that clarify the scope of external sharing of information from the ACRIMe system of records. Specifically, DHS proposes to add new routine uses that support the sharing of results of immigration status inquiries for handgun applicants, persons undergoing certain background checks, and for criminal law enforcement purposes. DHS also proposes to add a new routine use to support ICE's operation of the DHS Tip-line, which necessitates the sharing of information gathered from various voluntary sources with appropriate agencies that may have authority, jurisdiction, or other need to know regarding the subject of the tip. A new routine use is proposed to specifically support the sharing of information with criminal justice agencies and other users of NCIC when those agencies have a hit against an ICE-generated NCIC record to resolve the hit. DHS proposes a new routine use to support the sharing of information that is necessary when ICE places an immigration detainer on an individual currently in the custody of another agency or seeks to transfer custody from another agency to ICE pursuant to its efforts to enforce Federal immigration laws. Finally, DHS is adding new routine uses to support the necessary sharing of information with Congress and the Office of Management and Budget in connection with private immigration relief legislation; with other agencies as needed to test information systems and technologies; with foreign governments and the State Department as necessary to support current information sharing agreements and diplomatic communications with foreign governments; and with other criminal justice agencies to coordinate, collaborate, and deconflict actions on investigative matters or criminal law enforcement operations.

II. ACRIMe System of Records

The ICE LESC was originally established primarily to respond to inquiries from Federal, State, local, tribal and international criminal justice agencies (i.e., law enforcement agencies, criminal courts, booking and correctional facilities, and parole boards) regarding the immigration status of individuals they encountered while performing their law enforcement duties across the U.S. and internationally. The LESC's mission and ACRIMe functionality have expanded to support ICE's handling of and response to immigration status inquiries made by ICE and other Federal, State, local, tribal, and international criminal justice agencies regarding individuals arrested, subject to background checks, under investigation, or otherwise encountered by those agencies. The ACRIMe system supports and keeps appropriate records of the following customs, immigration, and law enforcement functions: (1) Support the ICE Secure Communities Program, which seeks to improve public safety by implementing a comprehensive, integrated approach to identify and remove criminal aliens from the U.S. using biometric data; (2) respond to electronic “Immigration Alien Queries” submitted by ICE and other criminal justice agencies regarding the immigration status of individuals they have arrested or are investigating (known as “Traditional law enforcement checks”); (3) support “Brady Act Checks,” which are background checks on foreign born persons seeking to purchase or obtain firearms in the U.S.; (4) create, update and clear records in the Federal Bureau of Investigation's (FBI) National Crime Information Center (NCIC) system about persons who are the subject of ICE-issued criminal warrants or immigration lookouts; (5) operate a 24-hour Tip-line for the public to report customs and immigration violations, suspicious activity or other law enforcement matters to the DHS; (6) conduct immigration status checks on individuals in support of special security events like the Super Bowl, or the security of visiting national leaders or sensitive facilities; and (7) process inquiries from OPM to determine the immigration status of Federal and contract applicants and employees undergoing a background investigation (known as “OPM checks”). The ACRIMe system is divided into four separate user interfaces, called modules: (1) The Operations Module; (2) Communications Center Module; (3) NCIC Section Module; and (4) Tip-line Module.

The ACRIMe Operations Module facilitates the electronic receipt of and response to Immigration Alien Queries (IAQs) from ICE and other agencies requesting an immigration status check pursuant to a traditional law enforcement, Brady Act, special security event, or OPM check. In the future the ACRIMe will automatically prioritize pending requests for immigration status checks to give preference to those concerning criminal aliens with more severe criminal histories. The ACRIMe Operations Module uses personal identifiers provided in the IAQ to automatically search various criminal, customs and immigration databases to gather information about the subject of the IAQ. Based on the search results, ICE prepares an Immigration Alien Response (IAR) in ACRIMe indicating the individual's last known immigration status, and electronically returns the IAR to the requesting agency.

The ACRIMe Communications Center Module documents calls from IAQ submitters who have further questions regarding IARs received from ICE, from criminal justice agencies contacting ICE to report suspected customs or immigration violations, and from law enforcement agencies seeking to confirm matches against ICE-generated National Crime Information Center (NCIC) records (known as “NCIC Hit Confirmation” calls).

The ACRIMe NCIC Section Module allows ICE to create, update and clear records in the Federal Bureau of Investigation's (FBI) NCIC system about persons for whom ICE has an outstanding criminal warrant or immigration lookout. ICE maintains “hit confirmation files” for these ICE-generated NCIC records, which provide additional information about the subject of the NCIC records and allow easy access to this information so that ICE can quickly confirm whether a person run through NCIC is likely the person who is the subject of the active warrant or lookout.

The ACRIMe Tip-line Module documents calls received from the general public and governmental and non-government organizations via the DHS/ICE Tip-line who are reporting suspected customs and immigration violations, suspicious activities or other law enforcement matters to ICE. If enough information is provided by the caller, ICE may manually conduct research in various government and commercial databases. Based on the findings of the search, ICE can manually create an investigatory lead that is routed to the appropriate ICE field office for further investigation or action.

This updated system of records notice is being published concurrently with the Privacy Impact Assessment (PIA) for the ACRIMe System because information maintained in ACRIMe is described in this notice. The ACRIMe PIA is available on the DHS Privacy Office Web site at http://www.dhs.gov/privacy.

Portions of the DHS/ICE-007 ACRIMe System of Records are exempt from one or more provisions of the Privacy Act because of criminal, civil and administrative enforcement requirements. Individuals may request information about records pertaining to them stored in the DHS/ICE-007 ACRIMe System of Records as outlined in the “Notification Procedure” section below. ICE reserves the right to exempt various records from release. The Secretary of Homeland Security has exempted portions of this system of records from subsections (c)(3) and (4); (d); (e)(1), (2), (3), (4)(G), (4)(H), (5) and (8); (f); and (g) of the Privacy Act. In addition, the system has been exempted from subsections (c)(3) and (4); (d); (e)(1), (4)(G), (4)(H), and (f) pursuant to 5 U.S.C. 552a(k)(2). Rules have been promulgated in accordance with the requirements of 5 U.S.C. 553(b), (c) and (e) and have been published in the Federal Register as addition to Title 28, Code of Federal Regulations (28 CFR 16.99). In addition, to the extent a record contains information from other exempt systems of records, ICE will rely on the exemptions claimed for those systems.

Consistent with DHS's information sharing mission, information stored in the DHS/ICE-007 ACRIMe System of Records may be shared with other DHS components, as well as appropriate Federal, State, local, tribal, foreign, or international government agencies. This sharing will only take place after DHS determines that the receiving component or agency has a need to know the information to carry out national security, law enforcement, immigration, intelligence, or other functions consistent with the routine uses set forth in this system of records notice.

In accordance with the Privacy Act of 1974, the Department of Homeland Security U.S. Immigration and Customs Enforcement is updating an existing system of records titled, Department of Homeland Security/U.S. Immigration and Customs Enforcement-007 Law Enforcement Support Center Alien Criminal Response Information Management System of Records (73 FR 74739, December 9, 2008). The information in this system of records includes data gathered and maintained both in paper form and electronically by U.S. Immigration and Customs Enforcement to carry out its mission to receive and respond to immigration status inquiries from criminal justice agencies regarding individuals arrested, under investigation, or otherwise encountered by those agencies. This system of records supports the U.S. Immigration and Customs Enforcement Secure Communities Program, the management of records in the Federal Bureau of Investigation's National Crime Information Center about persons who are the subject of U.S. Immigration and Customs Enforcement-issued criminal warrants and immigration lookouts, and the Department of Homeland Security/U.S. Immigration and Customs Enforcement Tip-line operation for receiving reports from the public as well as governmental and non-governmental organizations concerning customs and immigration violations, suspicious activity, or other law enforcement matters. This system also supports the U.S. Immigration and Customs Enforcement efforts to conduct immigration status checks on foreign born individuals applying to purchase/obtain a firearm in the United States, individuals supporting special security events or who are visiting or requesting access to national leaders or sensitive facilities, and individuals who are Federal or contract employees and applicants undergoing a U.S. Office of Personnel Management background investigation. Categories of individuals, categories of records, and the purpose statement and routine uses of this system of records notice have been updated to better reflect the current status of these records. The exemptions for the existing system of records notice will continue to be applicable for this system of records notice. Additionally, this system will continue to be included in the Department of Homeland Security's inventory of record systems.

III. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which their records are put, and to assist individuals to more easily find such files within the agency. Below is the description of the DHS/ICE-007 ACRIMe System of Records.

In accordance with 5 U.S.C. 552a(r), DHS has provided a report of this system of records to the Office of Management and Budget and to Congress.

System of Records:

DHS/ICE—007

System name:

Alien Criminal Response Information Management (ACRIMe) System

Security classification:

Unclassified and Law Enforcement Sensitive (LES).

System location:

Records are maintained at the U.S. Immigration and Customs Enforcement (ICE) Law Enforcement Support Center (LESC) in Williston, Vermont, at ICE Headquarters, and other ICE field office locations.

Categories of individuals covered by the system:

Categories of individuals covered in this system include:

(1) Individuals who are encountered by, arrested by, under the investigation of, or in the custody of a criminal justice agency and are the subject of an immigration status inquiry directed to ICE.

(2) Individuals who report tips concerning customs and immigration violations, suspicious activity or other law enforcement matters to the Department of Homeland Security (DHS)/ICE and individuals about whom those reports are made.

(3) Individuals who are the subject of criminal arrest warrants and immigration lookouts that ICE has entered into the Federal Bureau of Investigation's (FBI) National Crime Information Center (NCIC) System.

(4) Individuals subject to background investigations by a Federal agency for employment and/or national security purposes.

(5) Individuals who are applying to obtain/purchase a firearm in the United States and whose information has been submitted to ICE for the purpose of conducting an immigration status check in support of background checks required by the Brady Handgun Violence Protection Act (Brady Act) or other applicable laws.

(6) Law enforcement officers or other personnel working for criminal justice agencies who contact ICE for reasons relating to the purposes of this system of records, or for other law enforcement assistance.

Categories of records in the system:

Categories of records in this system may include:

• Biographic identifiers, other identifiers, and contact information (e.g., name, aliases, date and place of birth, address, telephone number, Social Security Number (SSN), Alien Registration Number (A-Number), driver's license number, other personal identification numbers, fingerprint identification number, passport number).

• Visa, border, immigration and citizenship information (e.g., citizenship and/or immigration status, application for benefit information, visa and travel history).

• Criminal history information (e.g., FBI number, booking number, current charge[s], custodial status, past offenses and convictions).

• NCIC hit confirmation records, which consist of information supporting the entry of criminal warrants or immigration lookouts into the NCIC system, such as criminal arrest warrant information, fingerprints and photographs, other information identifying the individual, and records reflecting the purpose/basis for the warrant or lookout. Records of inquiries received from criminal justice agencies regarding potential matches against ICE-created NCIC records, and records pertaining to ICE's research, resolution, and response to those inquiries.

• Background investigation records, which consist of identifying and other information received from agencies requesting an immigration status check on individuals as part of a background check for employment, gun ownership, or other reasons; research conducted by ICE during the conduct of the immigration status check; and ICE's research, resolution, and response to those inquiries.

• Criminal justice immigration status check records, which consist of identifying and other information received from criminal justice agencies requesting an immigration status check on individuals in the context of a criminal justice matter; prioritization of requests; research conducted by ICE during the conduct of the immigration status check; and ICE's research, resolution, and response to those inquiries.

• Public tip records, which consist of information contained in tips received from the public or other sources regarding customs and immigration violations, or other violations of law, and suspicious activities. This includes identifying and contact information about the individual reporting the tip (if provided) and information about the person or persons who are the subject of the tip.

• Information pertaining to ICE's follow-up activities regarding a tip or other information received pursuant to the activities supported by this system of records, including setting leads for ICE investigations and referrals to other agencies.

• Identification and authentication information for law enforcement officers or other criminal justice personnel who contact ICE.

Authority for maintenance of the system:

8 U.S.C. 1103, 8 U.S.C 1324(b)(3); 8 U.S.C 1360(b); 5 U.S.C. 52a(b); 5 U.S.C. 301; Section 504 of the Immigration and Nationality Act of 1990 (Pub. L. 101-649); the Brady Handgun Violence Protection Act of 1993 (Pub.L. 103-159); FY2008 DHS Appropriations Act (Pub. L. 108-161, 1844, 2050 (2007)); INA provisions regarding removal of criminal aliens (INA section 237(2) and section 238); and the Economy Act (31 U.S.C. 1535); the Federal Records Act, 44 U.S.C. 3101.

Purpose(s):

The purposes of this system are to:

(1) Identify and arrest individuals in the United States who may be subject to removal under the Immigration and Nationality Act, as amended.

(2) Respond to inquiries from criminal justice agencies that seek to determine the immigration status of an individual in the context of a criminal justice matter for the purpose identifying and arresting those who may be subject to removal.

(3) Inform criminal justice agencies and agencies conducting background checks whether an individual is under investigation and/or wanted by ICE or other criminal justice agencies.

(4) Receive, process and act on information received from the general public and other sources regarding suspicious activities and actual or potential violations of laws enforced by ICE or DHS, and to refer any other actionable information to the appropriate agencies for action.

(5) Provide assistance to domestic, foreign and international agencies that contact ICE and the LESC on matters within the scope of ICE's law enforcement authorities, including violations of U.S. customs and immigration laws.

(6) Collect and analyze data to evaluate the effectiveness and quality of services provided to other agencies in support of the purposes described above, and of ICE's customs and immigration law enforcement efforts generally.

(7) Identify potential criminal activity, immigration violations, and threats to homeland security; uphold and enforce the law; and ensure public safety.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other Federal agency conducting litigation or in proceedings before any court, adjudicative or administrative body, when it is necessary to the litigation and one of the following is a party to the litigation or has an interest in such litigation:

1. DHS or any component thereof;

2. Any employee of DHS, or HHS employee detailed to DHS, in his/her official capacity;

3. Any employee of DHS, or HHS employee detailed to DHS, in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To an appropriate Federal, State, tribal, local, international, or foreign law enforcement agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and disclosure is appropriate to the proper performance of the official duties of the person making the request.

I. To domestic governmental agencies seeking to determine the immigration status of persons who have applied to purchase/obtain a firearm in the United States, pursuant to checks conducted on such persons under the Brady Handgun Violence Prevention Act or other applicable laws.

J. To the U.S. Office of Personnel Management (OPM) or its agents seeking to determine the immigration status of individuals undergoing background investigations.

K. To appropriate Federal, State, local, tribal, foreign or international criminal justice agencies, or other authorized users of NCIC, to respond to inquiries regarding a person who is or may be the subject of an ICE-generated NCIC criminal arrest warrant or immigration lookout record.

L. To appropriate Federal, State, local, tribal, foreign or international agencies seeking to determine the immigration status of individuals who are being screened with respect to their participation in, attendance at, or other relation to a special security event.

M. To appropriate Federal, State, local, tribal, foreign or international agencies in order to refer reports of suspicious activity, tips, potential violations of law and other relevant information to agencies with appropriate jurisdiction, authorities, and/or need-to-know concerning the matters.

N. To the Department of Justice (DOJ), Federal Bureau of Prisons (BOP) and other Federal, State, local, territorial, tribal and foreign law enforcement or custodial agencies for the purpose of placing an immigration detainer on an individual in that agency's custody, or to facilitate the transfer of custody of an individual to ICE from the other agency.

O. To the appropriate foreign government agency charged with enforcing or implementing laws where there is an indication of a violation or potential violation of the law of another nation (whether civil or criminal), and to international organizations engaged in the collection and dissemination of intelligence concerning criminal activity.

P. To other Federal, State, local, or foreign government agencies, individuals, and organizations during the course of an investigation, proceeding, or activity within the purview of immigration and nationality laws to elicit information required by DHS/ICE to carry out its functions and statutory mandates.

Q. To international, foreign, and intergovernmental agencies, authorities, and organizations in accordance with law and formal or informal international arrangements.

R. To the Office of Management and Budget (OMB) in connection with the review of private relief legislation as set forth in OMB Circular No. A-19 at any stage of the legislative coordination and clearance process as set forth in the Circular.

S. To the U.S. Senate Committee on the Judiciary or the U.S. House of Representatives Committee on the Judiciary when necessary to inform members of Congress about an alien who is being considered for private immigration relief.

T. To the State Department when it requires information to consider and/or provide an informed response to a request for information from a foreign, international, or intergovernmental agency, authority, or organization about an alien or an enforcement operation with transnational implications.

U. To a criminal, civil, or regulatory law enforcement authority (whether Federal, State, local, territorial, tribal, international or foreign) where the information is necessary for collaboration, coordination and de-confliction of investigative matters, to avoid duplicative or disruptive efforts, and for the safety of law enforcement officers who may be working on related investigations.

V. To appropriate Federal, State, local, tribal, foreign or international governmental agencies or multilateral governmental organizations where DHS is aware of a need to utilize relevant data for purposes of testing new technology and systems designed to enhance national security or identify other violations of law.

W. To a court, magistrate, or administrative tribunal in the course of presenting evidence, including disclosures to opposing counsel or witnesses in the course of civil discovery, litigation, or settlement negotiations or in connection with criminal law proceedings or in response to a subpoena from a court of competent jurisdiction.

X. To Federal and foreign government intelligence or counterterrorism agencies or components where DHS becomes aware of an indication of a threat or potential threat to national or international security, or where such use is to assist in anti-terrorism efforts and disclosure is appropriate to the proper performance of the official duties of the person making the disclosure.

Y. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities behind locked doors. Electronic records are stored on magnetic disc, tape, digital media, and CD-ROM.

Retrievability:

Records may be retrieved by personal, biographic or biometric identifiers such as name, date of birth, place of birth, address, A-Number(s), FBI criminal history number(s), Social Security Number, Fingerprint Identification Number, and passport number.

Safeguards:

Records in this system are safeguarded in accordance with applicable rules and policies, including all applicable DHS automated systems security and access policies. Strict controls have been imposed to minimize the risk of compromising the information that is being stored. Access to the computer systems containing the records in this system is limited to those individuals who have a need to know the information for the performance of their official duties and who have appropriate clearances or permissions.

Retention and disposal:

ICE is seeking approval for a records disposition schedule for the records described in this system of records. ICE proposes to maintain the IAQ and IAR records pertaining to traditional law enforcement checks for seventy-five (75) and special security event and OPM checks for five (5) years from the date an immigration status determination is made and IAR returned, after which the records will be deleted from the ACRIMe system. ICE proposes to maintain NCIC Module records (containing the underlying basis for the ICE-generated NCIC record) for 75 years from the date the record is removed from NCIC. Pursuant to the legal requirements as defined by the Brady Act, ICE proposes to maintain IAQs and IARs related to Brady Act checks for twenty-four (24) hours, after which the records will be deleted from the ACRIMe system. ICE proposes to maintain Communication Center Module records containing NCIC Hit Confirmation calls for 75 years and follow-up calls to IARs for the time period consistent with the type of query conducted. Additionally, ICE proposes to maintain suspicious activity reporting in the Tip-line and the Communications Center Modules for ten (10) years from the date of the tip.

System Manager and address:

Unit Chief, Law Enforcement Support Center, U.S. Immigration and Customs Enforcement, 188 Harvest Lane, Williston, VT 05495.

Notification procedure:

The Secretary of Homeland Security has exempted this system from the notification, access, and amendment procedures of the Privacy Act because it is a law enforcement system. However, ICE will consider individual requests to determine whether or not information may be released. Thus, individuals seeking notification of and access to any record contained in this system of records, or seeking to contest its content, may submit a request in writing to ICE's FOIA Officer, whose contact information can be found at http://www.dhs.gov/foia under “contacts.” If an individual believes more than one component maintains Privacy Act records concerning him or her, the individual may submit the request to the Chief Privacy Officer and Chief Freedom of Information Act Officer, Department of Homeland Security, 245 Murray Drive, SW., Building 410, STOP-0550, Washington, DC 20528.

When seeking records about yourself from this system of records or any other Departmental system of records your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information, the component(s) may not be able to conduct an effective search, and your request may be denied due to lack of specificity or lack of compliance with applicable regulations.

Record access procedures:

See “Notification procedure” above.

Contesting record procedures:

See “Notification procedure” above.

Record source categories:

Records are obtained from ICE and other Federal, State, local, tribal, foreign and international criminal justice agencies (e.g., law enforcement agencies, investigators, prosecutors, correctional institutions, police departments, and parole boards).

Exemptions claimed for the system:

Pursuant to exemption 5 U.S.C. 552a(j)(2) of the Privacy Act, portions of this system are exempt from subsections (c)(3) and (4); (d); (e)(1), (2), (3), (4)(G), (4)(H), and (5) and (8); (f); and (g) of the Privacy Act. In addition, the system has been exempted from subsections (c)(3), (d), and (e)(1), (4)(G), (4)(H), and (f) pursuant to 5 U.S.C. 552a(k)(2). Rules have been promulgated in accordance with the requirements of 5 U.S.C. 553(b), (c) and (e) and have been published in the Federal Register as additions to Title 28, Code of Federal Regulations (28 CFR 16.99). In addition, to the extent a record contains information from other exempt systems of records, ICE will rely on the exemptions claimed for those systems.

Mary Ellen Callahan,
Chief Privacy Officer, Department of Homeland Security.

[FR Doc. 2010-3605 Filed 2-23-10; 8:45 am]

BILLING CODE 9111-28-P